INTERNATIONAL TRADE COMMISSION

[Investigation No. 332-288]

Ethyl Alcohol for Fuel Use: Determination of the Base Quantity of Imports

AGENCY: United States International Trade Commission.

ACTION: Notice of determination.

DATES: Effective Date: December 16, 2005.

SUMMARY: The United States International Trade Commission (USITC or the Commission) is required to determine annually the U.S. domestic market for fuel ethyl alcohol during the 12-month period ending on the preceding September 30. This determination is to be used to establish the “base quantity” of imports of fuel ethyl alcohol with a zero percent local feedstock requirement that can be imported from CBERA-beneficiary countries. The base quantity to be used by U.S. Customs and Border Protection in the administration of the law is the greater of 60 million gallons or 7 percent of U.S. consumption, as determined by the Commission. Beyond the base quantity of imports, progressively higher local feedstock requirements are placed on imports of fuel ethyl alcohol and mixtures from the CBERA-beneficiary countries.

For the 12-month period ending September 30, 2005, the Commission has determined the level of U.S. consumption of fuel ethyl alcohol to be 3.83 billion gallons. Seven percent of this amount is 268.1 million gallons (these figures have been rounded). Therefore, the base quantity for 2006 should be 268.1 million gallons.

FOR FURTHER INFORMATION CONTACT: Douglas Newman (202) 205-3328, douglas.newman@usitc.gov, in the Commission's Office of Industries. For information on legal aspects of the investigation contact Mr. William Gearhart, william.gearhart@usitc.gov, of the Commission's Office of the General Counsel at (202) 205-3091.

Hearing-impaired individuals are advised that information on this matter can be obtained by contacting our TDD terminal on (202) 205-1810.

Background: Section 7 of the Steel Trade Liberalization Program Implementation Act of 1989 (“the Act”), as amended (19 U.S.C. 2703 note), which concerns local feedstock requirements for fuel ethyl alcohol imported by the United States from CBERA-beneficiary countries, requires that the Commission determine annually the U.S. domestic market for fuel ethyl alcohol. For purposes of making determinations of the U.S. market for fuel ethyl alcohol, the Commission instituted Investigation No. 332-288, Ethyl Alcohol for Fuel Use: Determination of the Base Quantity of Imports, in March 1990. The Commission uses official statistics of the U.S. Department of Energy to make these determinations, as well as the PIERS database of the Journal of Commerce which is based on U.S. export declarations.

Section 225 of the Customs and Trade Act of 1990 (Pub. L. 101-382, August 20, 1990) amended the original language set forth in the Steel Trade Liberalization Program Implementation Act of 1989. The amendment requires the Commission to make a determination of the U.S. domestic market for fuel ethyl alcohol for each year after 1989.

Issued: December 21, 2005.
By order of the Commission.
Marilyn R. Abbott,
Secretary to the Commission.

[FR Doc. E5-7858 Filed 12-23-05; 8:45 am]

BILLING CODE 7020-02-P